DEPARTMENT OF ENERGY

Federal Energy Regulatory Commission

Combined Notice of Filings #1

February 3, 2006.

Take notice that the Commission received the following electric rate filings:

Docket Numbers: ER00-1828-004.

Applicants: ANP Marketing Company.

Description: ANP Marketing Co. submits an amendment to its FERC Electric Rate Schedule No. 1.

Filed Date: 01/27/2006.

Accession Number: 20060201-0124.

Comment Date: 5 p.m. eastern time on Friday, February 17, 2006.

Docket Numbers: ER00-2117-004.

Applicants: ANP Bellingham Energy Company, LLC.

Description: ANP Bellingham Energy Co., LLC submits an amendment to its FERC Electric Rate Schedule No.1.

Filed Date: 01/27/2006.

Accession Number: 20060202-0113.

Comment Date: 5 p.m. eastern time on Friday, February 17, 2006.

Docket Numbers: ER00-2118-004.

Applicants: ANP Blackstone Energy Company, LLC.

Description: ANP Blackstone Energy Co., LLC submits an amendment to its FERC Electric Rate Schedule No. 1.

Filed Date: 01/27/2006.

Accession Number: 20060202-0114.

Comment Date: 5 p.m. eastern time on Friday, February 17, 2006.

Docket Numbers: ER00-3751-004.

Applicants: ANP Funding I, L.L.C.

Description: ANP Funding I, LLC submits an amendment to its FERC Electric Rate Schedule No. 1.

Filed Date: 01/27/2006.

Accession Number: 20060202-0006.

Comment Date: 5 p.m. eastern time on Friday, February 17, 2006.

Docket Numbers: ER03-879-003; ER03-880-003; ER03-882-003.

Applicants: D.E. Shaw Plasma Trading, L.L.C.; D.E. Shaw & Co. Energy, L.L.C.; D.E. Shaw Plasma Power, L.L.C.

Description: DE Shaw Plasma Power, LLC et al. submit a notice of a change in status.

Filed Date: 01/25/2006.

Accession Number: 20060201-0125.

Comment Date: 5 p.m. eastern time on Wednesday, February 15, 2006.

Docket Numbers: ER06-318-002.

Applicants: North American Energy Credit and Clearing.

Description: North American Energy Credit and Clearing—Contract Merchant, LLC submits corrections to FERC Electric Tariff, Original Volume No. 1 filed 1/10/06.

Filed Date: 01/27/2006.

Accession Number: 20060203-0414.

Comment Date: 5 p.m. eastern time on Friday, February 10, 2006.

Docket Numbers: ER06-429-001.

Applicants: Florida Power Corporation.

Description: Florida Power Corp. submits Substitute First Revised Sheet No. 436 et al. to FERC Electric Tariff, Second Revised Volume No. 6.

Filed Date: 01/27/2006.

Accession Number: 20060202-0158.

Comment Date: 5 p.m. eastern time on Friday, February 17, 2006.

Docket Numbers: ER06-430-001.

Applicants: Progress Energy Services Company, LLC.

Description: Progress Energy Services Company, LLC, on behalf of Florida Power Corp. submits Substitute First Revised Sheet 436 et al. to FERC Electric Tariff, Second Revised Volume No. 3.

Filed Date: 01/27/2006.

Accession Number: 20060202-0159.

Comment Date: 5 p.m. eastern time on Friday, February 17, 2006.

Docket Numbers: ER06-502-001.

Applicants: Aquila, Inc.

Description: Aquilla Inc. submits an errata to its 1/18/06 compliance filing.

Filed Date: 01/25/2006.

Accession Number: 20060201-0121.

Comment Date: 5 p.m. eastern time on Wednesday, February 15, 2006.

Docket Numbers: ER06-556-000.

Applicants: New England Power Company.

Description: New England Power Co. submits a Fifth Revised Service Agreement No. 20 with Massachusetts Electric Co. et al. under FERC Electric Tariff, Original Volume No. 1.

Filed Date: 01/27/2006.

Accession Number: 20060201-0150.

Comment Date: 5 p.m. eastern time on Friday, February 17, 2006.

Docket Numbers: ER06-557-000.

Applicants: EL Paso Electric Company.

Description: El Paso Electric Co. submits a Power Purchase and Sale Agreement with Phelps Dodge Energy Services, LLC and Certificate of Concurrence filed 01/31/06.

Filed Date: 01/27/2006.

Accession Number: 20060131-0030.

Comment Date: 5 p.m. eastern time on Friday, February 17, 2006.

Docket Numbers: ER93-493-016.

Applicants: Milford Power Limited Partnership.

Description: Milford Power Limited Partners submits amendment to its FERC Electric Tariff No.1.

Filed Date: 01/27/2006.

Accession Number: 20060201-0120.

Comment Date: 5 p.m. eastern time on Friday, February 17, 2006.

Docket Numbers: ER99-4503-004.

Applicants: PP&L Great Works LLC.

Description: PPL Great Works, LLC submits second triennial market power update.

Filed Date: 01/24/2006.

Accession Number: 20060201-0123.

Comment Date: 5 p.m. eastern time on Tuesday, February 14, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-1849 Filed 2-9-06; 8:45 am]

BILLING CODE 6717-01-P